DEPARTMENT OF HEALTH AND HUMAN SERVICES

Centers for Disease Control and Prevention

National Center for Injury Prevention and Control Initial Review Group

In accordance with section 10(a)(2) of the Federal Advisory Committee Act (Pub. L. 92-463), the Centers for Disease Control and Prevention (CDC) announce the following meeting:

Name: National Center for Injury Prevention and Control (NCIPC), Initial Review Group (IRG).

Times and Dates: 6:30 p.m.-9:30 p.m., April 18, 2005. 8:30 a.m.-5 p.m., April 19, 2005. 8 a.m.-5 p.m., April 20, 2005.

Place: Hilton Atlanta Airport and Towers, 1031 Virginia Avenue, Atlanta, Georgia 30354.

Status: Closed: 6:30 p.m.-9:30 p.m., April 18, 2005. Closed: 8:30 a.m.-5 p.m., April 19, 2005. Closed: 8 a.m.-5 p.m., April 20, 2005.

Purpose: This group is charged with providing advice and guidance to the Secretary of Health and Human Services and the Director, CDC, concerning the scientific and technical merit of grant and cooperative agreement applications received from academic institutions and other public and private profit and nonprofit organizations, including State and local government agencies, to conduct specific injury research that focuses on prevention and control and supports Injury Control Research Centers (ICRCs).

Matters To Be Discussed: Agenda items include an overview of the injury program, discussion of the review process and panelists' responsibilities, and the review of and vote on applications. Beginning at 7 p.m., April 18, through 3 p.m., April 20, the Group will review individual research grant and cooperative agreement applications submitted in response to 10 Fiscal Year 2005 Request for Applications (RFAs) related to the following individual research announcements: #05012, Grants for Violence related Injury Prevention: Suicidal Behavior, Child Maltreatment, Youth Partner, Sexual Violence; #05017, Grants for Prevent Intimate Partner Violence; #05018, Cooperative Agreement National Academic Center of Excellence; #05020, Youth Violence through Community-Level Change; #05021, Grants for New Investigator; #05022, Grants to Prevent Unintentional Injury; #05023, Grants for Traumatic Injury Biomechanics Research; #05024, Alcohol impaired driving; #05025, Grants for Dissertation; #05029, Dissemination Research on Fall Prevention. In addition, the IRG will vote on the results of a mid-course site visit conducted on a current grantee in response to previous IRG recommendations in accordance to RFA #02043, pertaining to (ICRC). This portion of the meeting will be closed to the public in accordance with provisions set forth in section 552b(c)(4) and (6), title 5 U.S.C., and the Determination of the Director, Management Analysis and Services Office, CDC, pursuant to Pub. L. 92-463.

Agenda items are subject to change as priorities dictate.

Contact Person for More Information: Gwendolyn H. Cattledge, Ph.D., M.S.E.H., Executive Secretary, NCIPC IRG, CDC, 4770 Buford Highway, NE., M/S K02, Atlanta, Georgia 30341-3724, telephone (770) 488-1430.

The Director, Management Analysis and Services Office, has been delegated the authority to sign Federal Register Notices pertaining to announcements of meetings and other committee management activities for both CDC and the Agency for Toxic Substances and Disease Registry.

Dated: February 23, 2005.
Alvin Hall,
Director, Management Analysis and Services Office, Centers for Disease Control and Prevention.

[FR Doc. 05-5019 Filed 3-14-05; 8:45 am]

BILLING CODE 4163-18-P